DEPARTMENT OF HOUSING AND URBAN DEVELOPMENT

[Docket No. FR-5130-C-14]

Privacy Act of 1974; Amendment to Existing System of Records, Debt Collection Asset Management System; Correction

AGENCY: Office of the Chief Information Officer, HUD.

ACTION: Notice of an amendment to existing System of Records; correction.

SUMMARY: On November 13, 2007, HUD published notice of its intent to amend an existing Privacy Act System of Records (System of Records), the Debt Collection Asset Management System (DCAMS). HUD inadvertently stated in the “action line” that it would be amending two Systems of Records. This statement was made in error and this notice corrects that error.

FOR FURTHER INFORMATION CONTACT: The Departmental Privacy Act Officer, 451 Seventh St., SW., Room 4156, Washington, DC 20410, telephone number (202) 619-9057. (This is not a toll-free number.) A telecommunication device for hearing- and speech-impaired individuals (TTY) is available at (800) 877-8339 (Federal Information Relay Service).

SUPPLEMENTARY INFORMATION: On November 13, 2007, HUD issued public notice of its intent to amend an existing Privacy Act Systems of Records, the Debt Collection Asset Management System. Subsequent to publication of this notice HUD discovered that the “subject line” of this notice inadvertently stated incorrect information. This notice corrects that information.

In the Federal Register on November 13, 2007, in FR Doc. E7-22077, on page 63919, the third column, this notice corrects the “Action” caption to read: Amendment to an Existing Privacy Act System of Records, Debt Collection Management System (DCAMS).

Dated: November 29, 2007.
Walter Harris,
Acting Chief Information Officer.

[FR Doc. E7-23833 Filed 12-7-07; 8:45 am]

BILLING CODE 4210-67-P